DEPARTMENT OF THE INTERIOR

Fish and Wildlife Service

Final Environmental Impact Statement on Light Goose Management

AGENCY: Fish and Wildlife Service, Interior.

ACTION: Notice of availability of final environmental impact statement on light goose management.

SUMMARY: This notice advises the public of the availability of the Final Environmental Impact Statement (FEIS) on light goose management. The FEIS follows publication of the Draft Environmental Impact Statement (DEIS) and a proposed rule, each of which had extensive public comments periods. The FEIS analyzes the potential environmental impacts of several management alternatives for addressing problems associated with overabundant light goose populations. The FEIS analyzes the direct, indirect, and cumulative impacts related to several management alternatives and provides the public with responses to comments received on the DEIS.

DATES: The public review period for the FEIS will end August 13, 2007. After that date, we will publish a Record of Decision and a final rule.

ADDRESSES: You can obtain a copy of the FEIS by writing to the Division of Migratory Bird Management, 4401 N. Fairfax Drive, MBSP-4107, Arlington, VA 22203; by e-mailing us at: LightGooseEIS@fws.gov; or by calling us at (703) 358-1714. We will also post the FEIS on our Web site at: http://www.fws.gov/migratorybirds/issues/snowgse/tblcont.html.

FOR FURTHER INFORMATION CONTACT: Robert Blohm, Chief, Division of Migratory Bird Management, (703) 358-1714; or James Kelley (612) 713-5409.

SUPPLEMENTARY INFORMATION: On May 13, 1999, we published a notice in the Federal Register announcing our intent to prepare an EIS to address population expansion by light goose populations (64 FR 26268). On September 28, 2001, the Environmental Protection Agency (EPA) published a notice of availability of our DEIS on light goose management (66 FR 49668). We followed the EPA notice with our own notice of availability of the DEIS on October 5, 2001, and provided for a public comment period that ended on November 28, 2001 (66 FR 51274). On December 10, 2001, we published a notice extending the public comment period to January 25, 2002 (66 FR 63723). On July 13, 2007, EPA published a notice of availability of our FEIS (72 FR 38576).

The DEIS evaluated four management alternatives to address habitat destruction and agricultural depredations caused by light geese on various breeding, migration, and wintering areas: (1) Take no Action, or a continuation to manage light goose populations through existing wildlife management policies and practices (Alternative A); (2) Modify harvest regulation options and refuge management (Alternative B) (proposed action); (3) Implement direct agency control of light goose populations on migration and wintering areas in the U.S. (Alternative C); or (4) Seek direct light goose population control on breeding grounds in Canada (Alternative D). Our proposed alternative (Alternative B) would modify existing light goose hunting regulations to expand methods of take during normal hunting season frameworks. In addition, we proposed to create a conservation order to allow take of light geese outside of normal hunting season frameworks. We would also modify management practices on certain National Wildlife Refuges to alter the availability of food and sanctuary to light geese. On October 12, 2001, we published a proposed rule that summarized these alternatives in more detail, and outlined how we proposed to amend parts 20 and 21 of subchapter B, chapter I, title 50 of the Code of Federal Regulations (66 FR 52077).

In response to public comments that the alternatives we analyzed in the DEIS were mutually exclusive and did not represent a comprehensive management approach, we created a new alternative (Alternative E) in the FEIS that combined Alternatives B, C, and D. Alternative E would achieve light goose control using an integrated, two-phased approach involving increased harvest resulting from new regulatory tools (e.g. conservation order), changes in refuge management, and direct agency control. Phase 1 of Alternative E is identical to Alternative B, whereas phase 2 includes elements of Alternatives C and D. We envision that no more than 5 years would elapse in phase 1 before we evaluate the effectiveness of the light goose management program and assess the potential need for proceeding to phase 2. Because we have no jurisdiction over management actions in Canada (Alternative D), we would begin phase 2 with the actions outlined in Alternative C. If additional population control actions are required to achieve management goals, we would approach the Canadian Wildlife Service and urge implementation of actions outlined in Alternative D. The FEIS describes Alternatives A-E in more detail and analyzes the direct, indirect, and cumulative impacts related to each alternative. The FEIS also provides the public with responses to comments received on the DEIS.

Dated: June 4, 2007.
Kenneth Stansell,
Acting Director.

[FR Doc. E7-13935 Filed 7-17-07; 8:45 am]

BILLING CODE 4310-55-P